DEPARTMENT OF AGRICULTURE

Forest Service

Coconino and Kaibab National Forests, Arizona, Four Forest Restoration Initiative

AGENCY: Forest Service, USDA.

ACTION: Notice of intent to prepare an environmental impact statement.

SUMMARY: The Coconino and Kaibab National Forests are proposing to conduct restoration activities within a 750,000 acre ponderosa pine ecosystem over approximately 10 years. Treatment areas are located on the Williams and Tusayan districts of the Kaibab National Forest and on the Flagstaff, Mogollon Rim and Red Rock districts of the Coconino National Forest. Project treatments would occur in the vicinity of Flagstaff, Munds Park, Mormon Lakes, Tusayan, and Williams, Arizona. The objective of this project is to re-establish forest structure, pattern and composition, which will lead to increased forest resiliency and function. Resiliency increases the ability of the ponderosa pine forest to survive natural disturbances such as insect and disease, fire and climate change.

DATES: Comments concerning the scope of the analysis must be received by March 11, 2011. The draft environmental impact statement is expected in October, 2011 and the final environmental impact statement is expected April, 2012.

ADDRESSES: Send written comments to Coconino National Forest, Attention: 4FRI, 1814 S. Thompson Street, Flagstaff, Arizona 86001. Comments may also be sent via e-mail to 4FRI_comments@fs.fed.us, or via facsimile to (928) 527-3620.

FOR FURTHER INFORMATION CONTACT: Henry Provencio, 4FRI Team Leader at (928) 226-4684 or via e-mail at hprovencio@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Reduced forest health and the lack of diversity have resulted in a forest that is less resilient to the damaging effects of drought, insect and disease, and intense wildfire. The desired condition is to move towards an uneven-aged forest structure with all size classes represented. There is a need to improve forest structure and maintain the forest mosaic with frequent, low intensity fire. There is a need to implement the forest plan which states, “Manage for old age trees such that as much old forest structure as possible is sustained over time across the landscape” (USDA Forest Service 1987, as amended). Vegetation diversity throughout the analysis area has declined. The desired condition is to have Gambel oak and aspen present and reproducing. There is a need to maintain and promote Gambel oak by removing ponderosa pine competition, stimulating new growth, and maintaining growth in large diameter trees. Where possible, there is a need to regenerate aspen by removing ponderosa pine competition, stimulating growth and increasing individual recruitment.

Grasslands (which includes wet and dry meadows), which were once found throughout the analysis area, have shifted to woody vegetation as a result of tree encroachment (USDA Forest Service 2008) (USDA Forest Service 2009). The desired condition is to restore the historic patterns of trees within grasslands. There is a need to reduce/remove tree encroachment from historic grasslands. To maintain Gambel oak, aspen and grasslands, there is a need to reduce canopy density by thinning ponderosa pine encroachment.

Fire regimes in the analysis area have shifted from frequent, low-intensity surface fires (Fire Regime Condition Class (FRCC I) to lower frequency, high-intensity crown fires (FRCC III). The desired condition is to have the majority of the analysis area in FRCC I. There is a need to reduce the potential for crown fire and high intensity surface fire. In order to maintain grassy openings and interspaces between trees (as well as promote Gambel oak and aspen), there is a need to move towards having frequent fires that burn with low to mixed severity in 0 to 35 year intervals across most of the analysis area. There is a need to strategically place treatments to reduce the effects of high intensity and high severity wildfire on resources (such as sensitive wildlife habitat and the urban interface).

Riparian systems on the Coconino portion of the analysis area have shifted from having large trees with open canopies to small and medium trees with closed canopies. Understory vegetation has been reduced (USDA Forest Service 2009). The desired condition is to promote large trees and understory vegetation. There is a need to reduce tree encroachment and increase/maintain grasses, forbs and woody vegetation. There is a lack of recharge in the aquifers associated with springs and seeps due to drought, lack of fire, and closed forest canopies which increase evapotranspiration. The desired condition is to maintain or restore functionality. In order to restore functionality, there is a need to reduce tree encroachment, maintain these features through natural processes, and limit future disturbance where possible and practical.

Throughout the analysis area, dry ephemeral channels have been degraded by past actions. The desired condition is to have fully functioning ephemeral channels which may promote the establishment of native vegetation and reduced sediment flows. There is a need to restore channels to a functioning condition that more closely resembles their natural state.

Throughout the analysis area, there are closed roads and unauthorized user-created routes present. Some road prisms, which were identified for closure in other environmental analyses, are eroding and contributing sediment. The desired condition is to return road prisms (as possible and practical) to their natural condition. There is a need to promote and maintain vegetation re-establishment and physically preclude future motorized use on select closed roads and user-created routes.

Proposed Action

In response to the purpose and need, the Coconino and Kaibab National Forests propose to conduct restoration activities within a 750,000 acre ponderosa pine ecosystem over approximately a 10-year period. The draft proposed action would:

* Cut trees using a range of treatment methods including group selection, intermediate and pre-commercial thinning. Treatments would focus on the most abundant tree size classes in order to achieve and/or set the analysis area on the trajectory to attain greater diversity (heterogeneity) in spatial patterns and size class distribution. Treatments would be designed to manage for old age trees in order to have and sustain as much old forest structure as possible across the landscape. Strategically-placed treatments would be designed to create tree groups and clumps that stimulate grass, forbs and individual tree growth. The strategic placement of treatments would maximize the ability to reduce fire risk. Trees cut would be mechanically piled, burned, lopped and scattered or removed.

* Cut trees using methods that promote and stimulate the growth of Gambel oak and aspen in order to improve vegetation diversity and wildlife habitat. Protective measures (such as fencing or tree felling) would be used to protect aspen from ungulate use during critical growth periods.

* Cut trees that have encroached on grasslands (including wet and dry meadows) to restore historic tree patterns using evidence based science as a guide. After treatment and when appropriate, fire would be used to maintain the grasslands.

* Cut trees within select Mexican spotted Owl Protected Activity Centers (PACs) to improve habitat.

* Conduct prescribed burning over a period of 10 years. Burning methods would include jackpot, pile burning and broadcast. Maintenance burns would occur as needed to maintain openings and interspaces between trees, maintain tree groups and clumps, and move towards and/or maintain Fire Regime Condition Class (FRCC) I.

* Utilize protective measures (such as fencing) to protect sensitive riparian resources including springs, seeps and restored channels.

* Restore dry ephemeral channels to reduce sediment delivery, improve watershed function and increase the potential for future riparian vegetation establishment.

* Utilize (and reconstruct as needed) existing closed roads. Use of the roads would be temporary. Once treatment has occurred, roads would be returned to a closed status.

* Reconstruct roads to access treatment areas. Reconstruction may include road blading, culvert installation or replacement and gravelling.

* Decommission select closed and unauthorized roads. Decommission methods would include installing signs, gates, rock barriers, ripping, or re-contouring of slopes to preclude future motorized use. Roads that have established vegetation may need minimal treatment while others may need to be entirely ripped, seeded and slopes re-contoured.

* Obliterate select unauthorized, user-created routes on the Kaibab National Forest. Mechanical equipment would be used to install rock barriers and/or rip, seed and re-contour slopes.

Possible Alternatives

A full range of alternatives to the proposed action, including a no-action alternative, will be considered. The no-action alternative represents no change and serves as the baseline for the comparison among the action alternatives.

Responsible Official

The Responsible Officials are the Coconino Forest Supervisor and Kaibab Forest Supervisor.

Nature of Decision To Be Made

Given the purpose and need of the project, the Forest Supervisors will review the proposed action, other alternatives and the environmental consequences in order to make the following decisions including determining: (1) Whether to select the proposed action or another alternative; (2) the location, design, and scheduling of proposed restoration activities; (3) the estimated products, if any, to be made available from the project; (4) mitigation measures, monitoring requirements and adaptive management actions; and, (5) whether forest plan amendments are needed.

Scoping Process

This notice of intent initiates the scoping process, which guides the development of the environmental impact statement. Several workshops are planned for the purposes of discussing and refining the proposed action. Workshops begin on January 20, 2011 and continue throughout February 2011. February workshop dates are: February 2, 9, 16, and 24, 2011. All workshops begin at 1 p.m. and end at 5 p.m. With the exception of the February 9, 2011 meeting, all workshops will be held at the Coconino National Forest Supervisor's Office, 1824 S. Thompson Street, Flagstaff, AZ 86101. The February 9, 2011 workshop will be held at the Williams Ranger District, 742 South Clover Road, Williams, Arizona. Please contact Paula Cote' at (928) 226-4686 for additional information.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: January 19, 2011.
Kristin M. Bail,
Deputy Forest Supervisor, Coconino National Forest.

[FR Doc. 2011-1444 Filed 1-24-11; 8:45 am]

BILLING CODE 3410-11-M